ENVIRONMENTAL PROTECTION AGENCY

[EPA-HQ-ORD-2011-053; FRL-9485-1]

External Peer Review Meeting for Draft Microbial Risk Assessment Guideline: Pathogenic Microorganisms With Focus on Food and Water

AGENCY: Environmental Protection Agency (EPA).

ACTION: Notice.

SUMMARY: The Agency is announcing that Eastern Research Group, Inc. (ERG), a contractor to the EPA, will convene an independent panel of experts to review the draft document, Microbial Risk Assessment Guideline: Pathogenic Microorganisms with Focus on Food and Water. EPA previously announced the release of the draft guidance for a 60 day comment period (76 FR 44586-44587). The public comment period ended on September 26, 2011; EPA intends to forward public comments to the contractor for distribution to members of the review panel. The external review draft does not represent EPA policy.

The public may register to attend this peer review meeting as observers. Time will be set aside at the meeting for observers to give brief oral comments regarding the draft document. The draft document and appendix are available, via the Internet, on the Risk Assessment Forum web page (http://www.epa.gov/raf/microbial.htm). When finalizing the draft document, EPA intends to consider the comments from the external peer review meeting, along with public comments received in September. Public comments submitted during the public comment period ending September 26, 2011, may be viewed at http://www.regulations.gov under Docket ID No. EPA-HQ-ORD-2011-0532.

DATES: The peer review panel meeting on the draft document, Microbial Risk Assessment Guideline: Pathogenic Microorganisms with Focus on Food and Water will be held on Monday, November 7, 2011. The panel meeting begins at 8:30 a.m. and ends at 5 p.m. Eastern Standard Time.

ADDRESSES: The meeting will be held at the following address: L'Enfant Plaza Hotel, 480 L'Enfant Plaza, SW., Washington, DC 20024.

Internet: The draft document can be downloaded from http://www.epa.gov/raf/microbial.htm.

Instructions: To attend the peer review meeting as an observer, you must register no later than October 31, 2011. You may do this by calling ERG at (781) 674-7374 or toll free on (800) 803-2833 (ask for the MRA Peer Review coordinator, Laurie Waite); sending a facsimile to (781) 674-2906 (reference the MRA Peer Review Meeting and include your name, title, affiliation, full address and contact information); or sending an email to meetings@erg.com (reference the MRA Peer Review Meeting and include your name, title, affiliation, full address and contact information). You can also register via the Internet at https://www2.ergweb.com/projects/conferences/peerreview/register-mra.htm.

Space is limited, and registrations will be accepted on a first-come, first-served basis. There will be a limited amount of time for comments from the public at the peer review meeting. Please inform ERG if you wish to make oral comments during the meeting.

Information on Services for Individuals with Disabilities: The Agency welcomes public attendance at the MRA Peer Review Meeting, and will make every effort to accommodate persons with disabilities. For information on access or services for individuals with disabilities, contact ERG on (781) 674-7374 or toll free at (800) 803-2833 (ask for the MRA Peer Review coordinator, Laurie Waite); sending a facsimile to (781) 674-2906 (reference the “MRA Peer Review Meeting” and include your name and contact information); or sending an email to meetings@erg.com (reference the MRA Peer Review Meeting and include your name and contact information).

FOR FURTHER INFORMATION CONTACT: Dr. Michael W. Broder, Risk Assessment Forum, Office of the Science Advisor at the following address: U.S. Environmental Protection Agency, 1200 Pennsylvania Avenue, NW., Mail Code 8105R, Washington, DC 20460.

Dr. Broder's telephone number is (202) 564-3393. His email address is broder.michael@epa.gov.

Internet: The draft document can be downloaded from http://www.epa.gov/raf/microbial.htm.

SUPPLEMENTARY INFORMATION: The draft Microbial Risk Assessment Guideline was developed jointly by scientists from the U.S. Environmental Protection Agency and the U.S. Department of Agriculture, Food Safety and Inspection Service, with contributions from scientists in other federal agencies. The document addresses the full range of microbial risk assessment topics: definitions of the assessors' roles and responsibilities; planning and scoping; the four components of a risk assessment; and contains sections discussing risk management and communication, as well. The guideline highlights differences in the issues and processes between chemical and microbial risk assessment.

This document reflects the combined experience and expertise of microbial risk assessors from across the government, and will promote a consistent and more transparent approach to conducting microbial risk assessments.

Dated: October 24, 2011.
Paul T. Anastas,
Science Advisor.

[FR Doc. 2011-28305 Filed 10-31-11; 8:45 am]

BILLING CODE 6560-50-P